FEDERAL COMMUNICATIONS COMMISSION

[Report No. 2758]

Petitions for Reconsideration of Action in Rulemaking Proceeding

February 9, 2006.

Petitions for Reconsideration have been filed in the Commission's Rulemaking proceeding listed in this Public Notice and published pursuant to 47 CFR 1.429(e). The full text of these documents is available for viewing and copying in Room CY-B402, 445 12th Street, SW., Washington, DC, or may be purchased from the Commission's copy contractor, Best Copy and Printing, Inc. (BCPI) (1-800-378-3160). Oppositions to these petitions must be filed by March 2, 2006. See § 1.4(b)(1) of the Commission's rules (47 CFR 1.4(b)(1)). Replies to an opposition must be filed within 10 days after the time for filing oppositions have expired.

Subject: In the Matter of Review of the Emergency Alert System (EB Docket No. 04-296).

Number of Petitions Filed: 2.

William F. Caton,
Deputy Secretary.

[FR Doc. 06-1448 Filed 2-14-06; 8:45 am]

BILLING CODE 6712-01-P